DEPARTMENT OF THE INTERIOR

Fish and Wildlife Service

Endangered and Threatened Species Permit Applications

ACTION: Notice of receipt of applications.

SUMMARY: The following applicants have applied for a scientific research permit to conduct certain activities with endangered species pursuant to section 10(a)(1)(A) of the Endangered Species Act of 1973, as amended (16 U.S.C. 1531, et seq.).

Permit No. TE-046447

Applicant: U.S. Geological Survey, CERC, Yankton Field Research Station, Yankton, South Dakota. Applicant requests a permit to take the Rio Grande silvery Minnow (Hybognathus amarus) in conjunction with spawning, propagating and conducting toxicological testing for scientific research and recovery purposes within New Mexico and Yankton, South Dakota.

Permit No. TE-819538

Applicant: Bureau of Land Management, Phoenix, Arizona. Applicant requests an amendment to an existing permit to add the Kearney's blue-star (Amsonia kearneyana) for collection in conjunction with scientific research and recovery purposes within Arizona.

Permit No. TE-046517

Applicant: USGS New Mexico Coop Fish and Wildlife Research Unit, Las Cruces, New Mexico. Applicant requests a permit for recovery purposes to conduct surveys for the Rio Grande silvery Minnow (Hybognathus amarus) in conjunction with propagation and scientific research at Las Cruces, New Mexico.

DATES: Written comments on these permit applications must be received on or before September 20, 2001.

ADDRESSES: Written data or comments should be submitted to the Chief, Endangered Species Division, Ecological Services, P.O. Box 1306, Room 4102, Albuquerque, New Mexico 87103; (505) 248-6649; Fax (505) 248-6788. Documents will be available for public inspection by written request, by appointment only, during normal business hours (8:00 to 4:30) at the U.S. Fish and Wildlife Service, Albuquerque, New Mexico. Please refer to the respective permit number for each application when submitting comments. All comments received, including names and addresses, will become part of the official administrative record and may be made available to the public.

FOR FURTHER INFORMATION CONTACT: Chief, Endangered Species Division, Albuquerque, New Mexico, at the above address. Documents and other information submitted with these applications are available for review, subject to the requirements of the Privacy Act and Freedom of Information Act, by any party who submits a written request for a copy of such documents within 30 days of the date of publication of this notice, to the address above.

Steven M. Chambers,
Acting Assistant Regional Director, Ecological Services, Region 2, Albuquerque, New Mexico.

[FR Doc. 01-21005 Filed 8-20-01; 8:45 am]

BILLING CODE 4310-55-P